DEPARTMENT OF COMMERCE

National Oceanic and Atmospheric Administration

RIN 0648-XG038

Endangered Species; File No. 19496-01

AGENCY: National Marine Fisheries Service (NMFS), National Oceanic and Atmospheric Administration (NOAA), Commerce.

ACTION: Notice; receipt of application for a permit modification.

SUMMARY: Notice is hereby given that Mariana Fuentes, Ph.D., Florida State University, 581 Oakland Avenue, Tallahassee, FL 32301, has requested a modification to scientific research Permit No. 19496.

DATES: Written, telefaxed, or email comments must be received on or before April 11, 2018.

ADDRESSES: The modification request and related documents are available for review by selecting “Records Open for Public Comment” from the Features box on the Applications and Permits for Protected Species (APPS) home page, https://apps.nmfs.noaa.gov, and then selecting File No. 19496 Mod 1 from the list of available applications. These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Erin Markin or Amy Hapeman, (301) 427-8401.

SUPPLEMENTARY INFORMATION: The subject modification to Permit No. 19496, issued on June 16, 2016 (81 FR 1621), is requested under the authority of the Endangered Species Act of 1973, as amended (16 U.S.C. 1531 et seq.) and the regulations governing the taking, importing, and exporting of endangered and threatened species (50 CFR parts 222-226).

Permit No. 19496 authorizes the permit holder to take loggerhead (Caretta caretta), Kemp's ridley (Lepidochelys kempii), green (Chelonia mydas), and hawksbill (Eretmochelys imbricata) sea turtles for scientific research in the Florida Big Ben Region to identify important foraging and developmental habitats. The permit holder requests authorization to: (1) Add a new location to include the area from St. Lucie Inlet to Jupiter Inlet on the east coast of Florida, and (2) increase the number of green, Kemp's ridley, and loggerhead sea turtles that may be taken under the permit for the new location. Annually an additional 120 green, 48 loggerhead, and 3 Kemp's ridley sea turtles would be approached by vessel and pursued for capture. Additionally, up to 120 green, 48 loggerhead, and 3 Kemp's ridley sea turtles would be captured by hand or using dip, strike, or tangle nets, annually. All captured sea turtles would be tagged (passive integrated transponder and flipper), marked (temporarily), biologically sampled (tissue and blood), measured, weighed, and photographed. Up to 10 green and five loggerhead captured sea turtles also would receive a satellite transmitter (epoxy attachment) and biologically sampled (scute biopsy) prior to release.

Dated: March 6, 2018.
Julia Harrison,
Chief, Permits and Conservation Division, Office of Protected Resources, National Marine Fisheries Service.

[FR Doc. 2018-04830 Filed 3-9-18; 8:45 am]

BILLING CODE 3510-22-P